DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: Survey of the Need for the Improvement of the Infrared Reflectance Measurements Standards.

OMB Control Number: None.

Form Number(s): None.

Type of Request: Regular submission (new information collection).

Burden Hours: 50 Hours.

Number of Respondents: 100.

Average Hours Per Response: 30 minutes.

Needs and Uses: The Sensor Science Division (SSD) of the Physical Measurement Laboratory (PML) of NIST is responsible for providing standards for the characterization of the optical properties of materials for the United States. This serves the needs of a wide range of industries as well as government and academic laboratories. For many years, the SSD has been working to establish physical standards, measurement methods and measurement services in the infrared, and in recent years there have been numerous inquiries and requests for NIST to address specific needs, many of which are related to infrared reflectance. The purpose of this survey is to assess infrared optical properties measurement community needs for standard reference materials, calibration services, workshops, courses, and other means for improvement of the quality of their measurement data and traceability to national standards.

Affected Public: Business or other for-profit organizations; Not-for-profit institutions; Federal government; State, local, or tribal government.

Frequency: Once.

Respondent's Obligation: Voluntary.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to, OMB Desk Officer, Jasmeet Seehra, (202) 395-3123, Fax Number (202) 395-5167, or Jasmeet_K._Seehra@omb.eop.gov).

Dated: March 27, 2012.
Gwellnar Banks,
Management Analyst, Office of the Chief Information Officer.

[FR Doc. 2012-7641 Filed 3-29-12; 8:45 am]

BILLING CODE 3510-13-P